DEPARTMENT OF COMMERCE

International Trade Administration

[A-570-079]

Cast Iron Soil Pipe From the People's Republic of China: Final Results of Antidumping Duty Administrative Review; 2018-2020

AGENCY: Enforcement and Compliance, International Trade Administration, Department of Commerce.

SUMMARY: The Department of Commerce (Commerce) determines that an exporter of cast iron soil pipe from the People's Republic of China made sales at prices below normal value during the period of review (POR) August 31, 2018, through April 30, 2020.

DATES: Applicable December 23, 2021.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On August 9, 2021, the Department of Commerce (Commerce) published the Preliminary Results and invited interested parties to comment.¹

¹ See Cast Iron Soil Pipe from the People's Republic of China: Preliminary Results of Antidumping Duty Administrative Review; 2018-2020, 86 FR 43523 (August 9, 2021) (Preliminary Results), and accompanying Preliminary Decision Memorandum.

On October 8, 2021, Commerce received the petitioner's case brief.² On October 15, 2021, Commerce received a rebuttal brief from the sole mandatory respondent in this review, Yuncheng Jiangxian Economic Development Zone HengTong Casting Co., Ltd. (HengTong).³ On December 1, 2021, Commerce extended the deadline for the final results of this review until December 17, 2021.⁴ For a complete description of the events that occurred since the Preliminary Results, see the Issues and Decision Memorandum.⁵

² See Petitioner's Letter, “Cast Iron Soil Pipe from the People's Republic of China: Petitioner's Case Brief,” dated October 8, 2021. The petitioner is the Cast Iron Soil Pipe Institute.

³ See HengTong's Letter, “Cast Iron Soil Pipe from the People's Republic of China A-570-079 (Review 8/31/18-4/30/20). HengTong's Rebuttal Brief,” dated October 15, 2021.

⁴ See Memorandum, “Cast Iron Soil Pipe from the People's Republic of China: Extension of Deadline for Final Results of Antidumping Duty Administrative Review, 2018-2020,” dated December 1, 2021.

⁵ See Memorandum, “Cast Iron Soil Pipe from the People's Republic of China: Issues and Decision Memorandum for the Final Results of the Antidumping Duty Administrative Review; 2018-2020,” dated concurrently with, and hereby adopted by, this notice (Issues and Decision Memorandum).

Scope of the Order

The merchandise covered by the order is cast iron soil pipe from the People's Republic of China. For a complete description of the scope of this order, see the Issues and Decision Memorandum.⁶

⁶ Id.

Analysis of Comments Received

We addressed all issues raised in the case and rebuttal briefs in the Issues and Decision Memorandum. The appendix to this notice identifies the sole issue which parties raised. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties, and for the reasons explained in the Issues and Decision Memorandum, we made changes to the Preliminary Results.⁷ For these final results, Commerce is now applying facts available with an adverse inference (AFA) to HengTong.⁸ Accordingly, we are applying the highest rate from any segment of this proceeding, i.e., 235.93 percent, as AFA.⁹ For a discussion of this change, see the “Discussion of the Issue” section of the Issues and Decision Memorandum.

⁷ Id.

⁸ Id.

⁹ See Cast Iron Soil Pipe from the People's Republic of China: Final Affirmative Determination of Sales at Less Than Fair Value, 84 FR 6767, 6769 (February 28, 2019).

Final Results of Administrative Review

We are assigning the following dumping margin to the firm listed below for the POR, August 31, 2018, through April 30, 2020:

Exporter | Weighted-average dumping margin (percent)
Yuncheng Jiangxian Economic Development Zone HengTong Casting Co., Ltd (aka HengTong Casting Co., Ltd.) | 235.93

Disclosure

Normally, Commerce discloses to interested parties the calculations performed in connection with the final results of a review within five days of any public announcement or, if there is no public announcement, within five days of the date of publication of the notice of final results, in accordance with 19 CFR 351.224(b). However, because Commerce applied a rate based on total AFA to the mandatory respondent in this review, in accordance with section 776 of Tariff Act of 1930, as amended (the Act), there are no calculations to disclose.

Assessment Rates

Pursuant to section 751(a)(2)(C) of the Act, and 19 CFR 351.212(b), Commerce has determined, and U.S. Customs and Border Protection (CBP) shall assess, antidumping duties on all appropriate entries covered by this review. We intend to issue appropriate assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the final results, we will instruct CBP to apply an ad valorem assessment rate equal to the dumping margin shown above to all entries of subject merchandise during the POR which were exported by HengTong. We intend to instruct CBP to take into account the “provisional measures deposit cap,” in accordance with 19 CFR 351.212 (d).

Cash Deposit Requirements

The following cash deposit requirements will be effective upon publication of the final results of this review for shipments of the subject merchandise entered, or withdrawn from warehouse, for consumption on or after the publication date, as provided by section 751(a)(2)(C) of the Act: (1) For HengTong, the cash deposit rate will be equal to the dumping margin assigned in the final results of this review; (2) for previously investigated or reviewed China and non-China exporters not listed above that, at the time of entry are eligible for a separate rate based on a prior completed segment of this proceeding, the cash deposit rate will continue to be the existing exporter-specific cash deposit rate; (3) for all China exporters of subject merchandise that have not been found to be entitled to a separate rate at the time of entry, the cash deposit rate will be that for the China-wide entity (i.e., 235.93 percent); ¹⁰ and (4) for all non-China exporters of subject merchandise which at the time of entry are not eligible for a separate rate, the cash deposit rate will be the rate applicable to the China exporter that supplied that non-China exporter. These deposit requirements, when imposed, shall remain in effect until further notice.

¹⁰ Id.

Notification to Importers

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order (APO)

This notice also serves as a reminder to parties subject to APO of their responsibility concerning the return or destruction of proprietary information disclosed under APO in accordance with 19 CFR 351.305(a)(3). Timely written notification of the return or destruction of APO materials, or conversion to judicial protective order, is hereby requested. Failure to comply with the regulations and terms of an APO is a violation which is subject to sanction.

Notification to Interested Parties

We are issuing and publishing this notice in accordance with sections 751(a)(1) and 777(i) of the Act.

Dated: December 15, 2021.
Ryan Majerus,
Deputy Assistant Secretary for Policy and Negotiations, Performing the Non-Exclusive Functions and Duties of the Assistant Secretary for Enforcement and Compliance.

Appendix

List of Topics Discussed in the Issues and Decision Memorandum

I. Summary

II. Background

III. Scope of the Order

IV. Discussion of the Issue

Comment 1: Application of AFA to HengTong

V. Recommendation

[FR Doc. 2021-27849 Filed 12-22-21; 8:45 am]

BILLING CODE 3510-DS-P